DEPARTMENT OF COMMERCE

Foreign-Trade Zones Board

[B-77-2019]

Foreign-Trade Zone (FTZ) 65—Panama City, Florida; Notification of Proposed Production Activity; Oceaneering International, Inc.; (Sub-Sea Distribution Parts and Systems); Panama City, Florida

Oceaneering International, Inc. (Oceaneering Intl.) submitted a notification of proposed production activity to the FTZ Board for its facility in Panama City, Florida. The notification conforming to the requirements of the regulations of the FTZ Board (15 CFR 400.22) was received on December 11, 2019.

The Oceaneering Intl. facility is located within FTZ 65. The facility will be used for the production and repair of sub-sea distribution parts and systems. Pursuant to 15 CFR 400.14(b), FTZ activity would be limited to the specific foreign-status materials and components and specific finished products described in the submitted notification (as described below) and subsequently authorized by the FTZ Board.

Production under FTZ procedures could exempt Oceaneering Intl. from customs duty payments on the foreign-status components used in export production. On its domestic sales, for the foreign-status materials/components noted below, Oceaneering Intl. would be able to choose the duty rates during customs entry procedures that apply to: Hydraulic hoses; extruded stainless steel tubes; electrical cable caps; electrical cables; subsea umbilicals; umbilical termination assemblies; and, subsea umbilicals containing fiber optic cables (duty rate ranges from duty-free to 5.3%). Oceaneering Intl. would be able to avoid duty on foreign-status components which become scrap/waste. Customs duties also could possibly be deferred or reduced on foreign-status production equipment.

The components and materials sourced from abroad include: Hydraulic fluids; lubricating oils (synthetic; petroleum; resin); ethylene glycol mixes; paints; caulking sealants; propylene resins; nylon pellets; elastomeric resin stiffeners; elastomeric resin covers; polyurethane resin cable connectors; plastic components (cable and hose tubing; sleeves; fittings; cylindrical strips; umbilical protection shrouds; seals; sleeves to protect bending damage); tape components (electrical plastic; duct; fiberglass; electrical steel; galvanized steel); bungee cords; hydraulic hoses; rubber o-rings; rubber straps; strong synthetic plastic polymers; stainless steel components (seamless super-duplex tubing; flanges; fasteners; hex bolts); steel components (pipe fittings; hex bolts; bolts assemblies; studs; locknuts; lugnuts; hex nuts; washers; hangers); soft copper cables; nickel alloy strips; titanium banding; lifting components (roller assemblies; roller packers; assemblies; apparatuses); electronic systems; valve remote control units; electrical apparatus harnesses; underwater electrical connectors; electric components (cables; test plugs; test plug pins; test receptacles); electrical copper wires; cable end test plugs; cable end test receptacles; umbilical termination assemblies; fiber optic cables; syntactic foam buoyancy modules; and, pressure transmitters (duty rate ranges from duty free to 7.0% or $0.84/BBL). The request indicates that certain materials/components may be subject to special duties under Section 232 of the Trade Expansion Act of 1962 (Section 232) or Section 301 of the Trade Act of 1974 (Section 301), depending on the country of origin. The applicable Section 232 and Section 301 decisions require subject merchandise to be admitted to FTZs in privileged foreign status (19 CFR 146.41).

Public comment is invited from interested parties. Submissions shall be addressed to the Board's Executive Secretary and sent to: ftz@trade.gov. The closing period for their receipt is February 4, 2020.

A copy of the notification will be available for public inspection in the “Reading Room” section of the Board's website, which is accessible via www.trade.gov/ftz.

For further information, contact Juanita Chen at juanita.chen@trade.gov or 202-482-1378.

Dated: December 18, 2019.
Andrew McGilvray,
Executive Secretary.

[FR Doc. 2019-27798 Filed 12-23-19; 8:45 am]

BILLING CODE 3510-DS-P